DEPARTMENT OF EDUCATION

SOCIAL SECURITY ADMINISTRATION

Applications for New Awards; Minorities and Retirement Security Program

AGENCY: Office of Postsecondary Education, Department of Education; Office of Retirement and Disability Policy, Social Security Administration.

ACTION: Notice.

Overview Information:

Minorities and Retirement Security Program

Notice inviting applications for new awards for fiscal year (FY) 2013.

Catalog of Federal Domestic Assistance (CFDA) Number: 84.414A.

DATES: Applications Available: January 22, 2013.

Deadline for Transmittal of Applications: March 25, 2013.

Deadline for Intergovernmental Review: May 22, 2013.

Full Text of Announcement

I. Funding Opportunity Description

Purpose of Program: The Minorities and Retirement Security (MRS) Program is a new discretionary grant program jointly administered by the United States Department of Education (ED or the Department) and the United States Social Security Administration (SSA). The MRS Program will provide grants to support research by graduate students at selected graduate institutions with high proportions of minority and low-income students (referred to in this notice as Minority Serving Institutions (MSIs)) in the areas of retirement security, financial literacy, and financial decisionmaking (personal savings, labor force planning, personal debt, etc.) within minority and low-income communities.

SUPPLEMENTARY INFORMATION: SSA will provide the grant funds and will share responsibility with ED for selecting reviewers and monitoring the funded projects. ED is responsible for administration of the grant competition, making the grant awards, and monitoring the grantees' compliance with ED's financial requirements.

The grantee may be eligible for funding for up to five years, depending upon performance of the grantee and budget constraints of SSA and/or ED. If funding is available after the first year, ED will make continuation awards after considering SSA's assessments of the grantees' project progress. If a grantee receives a continuation award it must continue to use the funds to support graduate students who conduct research on retirement security, financial literacy, and financial decisionmaking within minority and low-income communities. An institution may only receive one MRS Program award in any given fiscal year.

Priority, Definitions, and Requirement: We are establishing this priority, these definitions, and this requirement for the FY 2013 grant competition and any subsequent year in which we make awards from the list of unfunded applicants from this competition, in accordance with section 437(d)(1) of the General Education Provisions Act (GEPA), 20 U.S.C. 1232(d)(1).

Absolute Priority: This priority is an absolute priority. Under 34 CFR 75.105(c)(3) we consider only applications that meet this priority.

This priority is: Retirement Security, Financial Literacy, and Financial Decisionmaking.

Background:

ED has partnered with the SSA to establish the MRS Program to increase the capacity for producing, and quality of, published research by MSIs in the areas of retirement security, financial literacy, and financial decisionmaking within minority and low-income communities. These grants also seek to expand the talent pool of scientists and researchers from MSIs who are prepared to conduct rigorous research in this area. Grants will be awarded to eligible MSIs that are conducting research across a variety of relevant disciplines and fields (for example, business, economics, education, human development, political science, public policy, psychology, sociology, and statistics).

Priority:

The purpose of this program is to increase the number of researchers at MSIs who conduct high quality retirement security research within minority and low-income communities. Grantees are to conduct research in the areas of retirement security, financial literacy, and financial decisionmaking within minority and low-income communities. Grantees are expected to produce research findings for publication, and to submit them to peer reviewed journals for consideration. Grantees are also required to disseminate their research findings through published papers and conference presentations, or such other means as proposed in its grant application. The grantee may, at its discretion, either: Develop a tool or program in the areas of retirement security, financial literacy, and financial decisionmaking within minority and low-income communities and evaluate the efficacy of that tool or program; or may evaluate the efficacy of an existing tool or program in the areas of retirement security, financial literacy, and financial decisionmaking within minority and low-income communities.

Such activities must be principally conducted by graduate students at the grantee MSI. Faculty at the grantee MSI must mentor students doing the research.

Research activities may include:

1. Empirical research using extant microlevel data to document the retirement security of minorities and the early, mid-life, and late-life causes of inadequate retirement income among minority and low-income households. Examples of extant microlevel data studies where the focus is on individual respondents (as opposed to organizations or groups) that may be used for this purpose are the Health and Retirement Study, the Survey of Consumer Finances, the Survey of Program Participation, the Current Population Survey, the American Life Panel, the Panel Survey of Income Dynamics, individual-level databases maintained by the National Center for Education Statistics, and other large-scale individual-level databases. The surveys listed as examples have public use files, which are subject to an expedited Institutional Review Board (IRB) review. Applicants using other data sources must submit their proposed research through a regular IRB review, which may take longer. IRB reviews are not required at the time of application. However, if funded, all applicants must follow their IRB review procedures.

2. Evaluation of pre-existing or development and evaluation of original research-based financial literacy and financial decisionmaking interventions for students at eligible MSIs, especially minority and low-income students. Interventions may include, but are not limited to: Counseling; workshops; publications; or programs on effective money management, debt, and staying in and paying for college. These interventions may include behavioral economic concepts designed to teach students how to make optimal financial decisions.

3. Evaluation of pre-existing or development and evaluation of original research-based financial literacy and financial decisionmaking interventions for members of minority and low-income communities, including students at postsecondary institutions. Interventions may include, but are not limited to: Counseling; workshops; publications; adult education courses; or other programs on financial literacy and financial decisionmaking, debt management and reduction, credit report and score improvements, and personal savings plans, such as for retirement, a child's education, or an emergency fund. These interventions may include behavioral economic concepts designed to teach members of minority and low-income communities how to make optimal financial decisions.

4. Evaluation of pre-existing or development and evaluation of original research-based high school or college curricula for minority and low-income students designed to improve these students' financial literacy and financial decisionmaking. The curricula may be designed as entire courses or as new modules to be included within an already existing course (e.g., integrating financial literacy and financial decisionmaking topics into math, economics, or psychology courses).

5. Evaluation of pre-existing or development and evaluation of original research-based professional development programs on financial literacy and financial decisionmaking for librarians, social workers, counselors, and others working in community-based organizations in minority and low-income communities. These programs should use a “train-the-trainer” model where librarians, social workers, counselors, and others are trained in financial literacy and financial decisionmaking issues germane to the minority and low-income communities they serve so that they can educate those same communities through financial counseling, literature, seminars, or workshops.

6. Other research projects that support activities within minority and low-income communities designed to improve financial literacy and financial decisionmaking related to educational attainment, labor market outcomes, and retirement security.

Requirement: Each applicant must conduct a literature review that summarizes current research and practice supporting the significance of its project. Each applicant must indicate whether the project would take a new direction or build on current or previous national, State, or community efforts that have shown promise of effectiveness.

Definitions:

Financial literacy means the ability to make informed judgments and to take effective actions regarding the current and future use and management of money. It includes the ability to understand financial choices, plan for the future, spend wisely, and manage the challenges associated with life events such as a job loss, saving for retirement, or paying for a child's education. (www.financialeducatorscouncil.org/financial-literacy-definition.html)

Good standing means the status of a grantee that has not been found to be a significant project or institutional risk, as indicated by ED's risk management review, which includes an assessment of the institution's ED grant project, financial standing, audits, and accreditation agency reports.

Low-income means income of less than 50 percent of the median household income—less than $31,200 in 2011. Grantees may suggest other measures of low income as appropriate to their research focus—for instance, State-specific levels of median household income, or median rural household income. These measures must be derived from nationally recognized sources such as Federal statistical agencies or the Census Bureau.

Personal debt means debts that are owed as a result of purchasing goods that are consumable or do not appreciate. (www.investopedia.com/terms/c/consumer-debt.asp#axzz1VyK6apGi)

Personal savings means savings by households. Personal savings equals disposable personal income minus spending for consumption and interest payments. (www.teachmefinance.com/Financial_Terms/personal_saving.html)

Personal savings rate means personal savings as a percentage of disposable personal income.

Retirement security means an individual's level of comfort with the resources that are intended to support such individual through retirement and provide a standard of living similar to what was experienced before retirement. (www.annuitydigest.com/retirement-security/definition)

Waiver of Proposed Rulemaking: Under the Administrative Procedure Act (5 U.S.C. 553), the Department generally offers interested parties the opportunity to comment on proposed priorities, definitions, and requirements. Section 437(d)(1) of GEPA, however, allows the Secretary to exempt from rulemaking requirements, regulations governing the first grant competition under a new or substantially revised program authority. This is the first grant competition for this program under section 1110(a) of the Social Security Act (42 U.S.C. 1310(a)) and therefore qualifies for this exemption. In order to ensure timely grant awards, the Secretary has decided to forego public comment on the priority, definitions, and requirement under section 437(d)(1) of GEPA. This priority, definitions, and requirement will apply to the FY 2013 grant competition and any subsequent year in which we make awards from the list of unfunded applicants from this competition.

Program Authority: Section 1110(a) of the Social Security Act (42 U.S.C. 1310(a)).

Applicable Regulations: (a) The Education Department General Administrative Regulations (EDGAR) in 34 CFR parts 74, 75, 77, 79, 80, 81, 82, 84, 86, 97, 98, and 99. (b) The Education Department debarment and suspension regulations in 2 CFR part 3485. (c) The Social Security Administration program regulations in 20 CFR parts 435 and 437.

II. Award Information

Type of Award: Discretionary grants.

Estimated Available Funds: $440,000.

Estimated Range of Awards: $60,000-$120,000.

Estimated Average Size of Awards: $90,000.

Estimated Number of Awards: 4.

Note: ED and SSA are not bound by any estimates in this notice.

Project Period: Up to 60 months.

III. Eligibility Information

1. Eligible Applicants: Institutions of higher education (IHEs) that currently are grantees under one of the following programs: Strengthening Historically Black Graduate Institutions (HBGI) [84.031B]; Master's Degree Programs at Historically Black Colleges and Universities (HBCU) [84.382G]; Promoting Postbaccalaureate Opportunities for Hispanic Americans (PPOHA) [84.031M], and Master's Degree Programs at Predominantly Black Institutions (PBI) [84.382D]. In addition, to be eligible for this program, an applicant must be in good standing in regard to its other grants from ED.

2. Cost Sharing or Matching: This program does not require cost sharing or matching.

IV. Application and Submission Information

1. Address to Request Application Package: Karen Epps, U.S. Department of Education, 1990 K Street NW., Room 6012, Washington, DC 20006-8510. Telephone: (202) 502-7774 or by email: karen.epps@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed in this section.

2. Content and Form of Application Submission: Requirements concerning the content of an application, together with the forms you must submit, are in the application package for this program.

Page Limit: The application narrative is where you, the applicant, address the selection criteria that reviewers use to evaluate your application. You must limit the application narrative to no more than 40 pages. The application's Appendix should only include the information requested. For the purpose of determining compliance with the page limit, each page on which there are words will be counted as one full page. Applicants must use the following standards:

• A “page” is 8.5″ × 11″, on one side only, with 1″ margins at the top, bottom, and both sides. Page numbers and an identifier may be within the 1″ margin.

• Double space (no more than three lines per vertical inch) all text in the application narrative, including titles, headings, footnotes, quotations, references, and captions, as well as all text in figures and graphs. Text in charts and tables may be single-spaced. You should also include a table of contents in the application narrative, which will not be counted against the 40-page limit.

• Use a font that is either 12 point or larger or no smaller than 10 pitch (characters per inch).

• Use one of the following fonts: Times New Roman, Courier, Courier New, or Arial. An application submitted in any other font (including Times Roman and Arial Narrow) will not be accepted.

The page limit does not apply to Part I—Application for Federal Assistance (SF 424); Supplemental SF 424 Part II—Budget Information, Non-Construction Programs (ED Form 524); the one-page Project Abstract form; or Part IV—Assurances and Certifications. However, the page limit does apply to all the application's narrative section (Part III—Selection Criteria) and the entire appendix. We will reject your application if you exceed the page limit.

3. Submission Dates and Times:

Applications Available: January 22, 2013.

Deadline for Transmittal of Applications: March 25, 2013.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: May 22, 2013.

4. Intergovernmental Review: This program is subject to Executive Order 12372 and the regulations in 34 CFR part 79. Information about Intergovernmental Review of Federal Programs under Executive Order 12372 is in the application package for this program.

5. Funding Restrictions: Applicants are subject to the ED funding restrictions outlined in the Applicable Regulations section of this notice.

Only IHEs that currently have a grant from one of the following programs may apply: Strengthening Historically Black Graduate Institutions (HBGI) [84.031B]; Master's Degree Programs at Historically Black Colleges and Universities (HBCU) [84.032G]; Promoting Postbaccalaureate Opportunities for Hispanic Americans (PPOHA) [84.031M]; and Master's Degree Programs at Predominantly Black Institutions (PBI) [84.382D]. Funds can only be used to cover research activities related to retirement security, financial literacy, and financial decisionmaking within minority and low-income communities conducted by graduate students.

6. Data Universal Numbering System Number, Taxpayer Identification Number, Central Contractor Registry, and System for Award Management: To do business with the Department, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR or SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications

Applications for grants under the Minorities and Retirement Security Program, CFDA Number 84.414A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Minorities and Retirement Security Program at www.Grants.gov. You must search for the downloadable application package for this program by the CFDA number. Do not include the CFDA number's alpha suffix in your search (e.g., search for 84.414, not 84.414A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: Application for Federal Assistance (SF 424), Department of Education Supplemental Information for SF 424, Budget Information, Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days; or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: John Clement, U.S. Department of Education, 1990 K Street NW., Room 6006, Washington, DC 20006-8510. FAX: (202) 502-7861.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.414A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application, by hand, on or before the application deadline date, to the Department at the following address:

U.S. Department of Education, Application Control Center, Attention: (CFDA Number 84.414A) 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition were developed pursuant to a waiver of rulemaking under section 437(d)(1) of GEPA and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In making a competitive grant award, Federal agencies require various assurances including those applicable to Federal civil rights laws that prohibit discrimination in programs or activities receiving Federal financial assistance from the Department of Education (34 CFR 100.4, 104.5, 106.4, 108.8, and 110.23).

ED will be responsible for receiving and reviewing all applications for eligibility. A review panel selected by ED and SSA that consists of at least three persons will be formed. Each panelist will objectively review and score applications using the selection criteria. All three scores will be added and divided by three, providing the overall score of each application. A slate with all applicants' overall scores will be prepared. Applications will be funded in rank order.

3. Special Conditions: Under 34 CFR 74.14 and 80.12, the Secretary of Education and the SSA Commissioner may impose special conditions on a grant if the applicant or grantee: is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirement in 2 CFR 170 should you receive the funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For other specific requirements on reporting, please go to http://www.ssa.gov/oag/grants/grantspolicyhandbk.pdf.

4. Performance Measures: The success of this SSA-ED joint grant program will be measured by the quality and usefulness of grantees' research and development and evaluation activities, as evidenced by the publication of research findings in peer-reviewed journals or other publications, the presentation of research findings at conferences, and the development of materials or curricula based on research findings.

5. Continuation Awards: In making a continuation award, the Secretary may consider, under 34 CFR 75.253, the extent to which a grantee has made “substantial progress toward meeting the objectives in its approved application.” In determining whether a grantee has made substantial progress, the Secretary will consider SSA's review of a grantee's progress in meeting the targets and projected outcomes in its approved application, and whether the grantee has expended funds in a manner that is consistent with its approved application and budget, as monitored by ED. In making a continuation grant, the Secretary also considers whether the grantee is operating in compliance with the assurances in its approved application, including those applicable to Federal civil rights laws that prohibit discrimination in programs or activities receiving Federal financial assistance from ED (34 CFR 100.4, 104.5, 106.4, 108.8, and 110.23).

VII. Agency Contacts

FOR FURTHER INFORMATION CONTACT: For questions regarding the program: Karen Epps, U.S. Department of Education, 1990 K Street NW., room 6012, Washington, DC 20006-8510. Telephone: (202) 502-7774 or by email: karen.epps@ed.gov.

Or contact John Clement, U.S. Department of Education, 1990 K Street NW., room 6006, Washington, DC 20006-8510. Telephone: (202) 502-7520 or by email: john.clement@ed.gov.

For application content-related questions contact: David Rogofsky, Office of Policy Research, Social Security Administration, 500 E Street SW., Washington, DC 20254-0003. Telephone: (202) 358-6209 or by email: david.rogofsky@ssa.gov.

Or contact John Murphy, Office of Policy Research, Social Security Administration, 500 E Street SW., Washington, DC 20254-0003. Telephone: (202) 358-6033 or by email: john.murphy@ssa.gov.

If you use a TDD or TTY, call the FRS, toll free, at 1-800-877-8339.

VIII. Other Information

Accessible Format: Individuals with disabilities can obtain this document and a copy of the application package in an accessible format (e.g., braille, large print, audiotape, or compact disc) on request to one of the program contact persons listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 16, 2013.
Laura Haltzel,
Acting Deputy Associate Commissioner for the Office of Retirement Policy, Social Security Administration.
David A. Bergeron,
Acting Assistant Secretary for Postsecondary Education, Department of Education.

[FR Doc. 2013-01176 Filed 1-18-13; 8:45 am]

BILLING CODE 4000-01-P